DEPARTMENT OF HOMELAND SECURITY

Federal Emergency Management Agency

44 CFR Part 67

[Docket No. FEMA-B-7708]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | * Elevation in feet (NGVD) + Elevation in feet (NAVD) # Depth in feet above ground: Effective | * Elevation in feet (NGVD) + Elevation in feet (NAVD) # Depth in feet above ground: Modified
Town of Mapleton, Maine
Maine | Town of Mapleton | Aroostook River | Down stream of Mapleton Corporate Limit | None | +433
|  |  | Upstream of Mapleton Corporate Limit | None | +435
|  | Clayton Brook | Approximately 1,000 feet downstream of old Railroad Grade | None | +471
|  |  | Approximately 2,000 feet upstream of Hughes Road | None | +583
|  | Hanson Brook | Confluence with Hanson Lake | None | +504
|  |  | Just upstream of Bagley Road | None | +515
|  | Hanson Lake | Hanson Lake | None | +504
|  | Libby Brook | Confluence with North Branch Presque Isle | None | +524
|  |  | Upstream of Mapleton Corporate Limit | None | +584
|  | North Branch Presque Isle Stream | Confluence with Presque Isle Stream | None | +440
|  |  | Upstream of Town of Mapleton Corporate Limit | None | +527
|  | Presque Isle Stream | Just down stream of confluence with Arnold Brook | None | +440
|  |  | Upstream of Mapleton Corporate Limit | None | +448
|  | Tea Kettle Brook | Confluence of North Branch Presque Isle Stream | None | +468
|  |  | Just upstream of Pulcifer Road | None | +470
|  | Unnamed Brook | Confluence with North Branch Presque Isle Stream | None | +458
|  |  | Just upstream of Creasy Ridge Road | None | +508
* National Geodetic Vertical Datum.
# Depth in feet above ground.
+ North American Vertical Datum.
ADDRESSES
Town of Mapleton
Maps are available for inspection at 103 Pulcifur Road, P.O. Box 500, Mapleton, ME 04757.
Send comments to The Honorable John Y. Edgecomb, Town Manager, 103 Pulcifur Road, P.O. Box 500, Mapleton, ME 04757.
Town of Van Buren, Maine
Maine | Town of Van Buren | Violette Brook | At confluence of Violette Stream | None | +468
|  |  | Just upstream of Castonguay Road | None | +530
|  |  | Approximately 2,500 feet upstream of private road at the Corporate Limits | None | +608
|  | Violette Stream | At Bangor and Aroostook Railroad | None | +451
|  |  | At confluence of Violette Brook | None | +468
|  |  | Approximately 1,000 feet upstream of Champlain Street | None | +483
* National Geodetic Vertical Datum.
# Depth in feet above ground.
+ North American Vertical Datum.
ADDRESSES
Town of Van Buren
Maps are available for inspection at 51 Main Street, Suite 101, Van Buren, ME 04785.
Send comments to The Honorable John Rossignol, Council Chairman, 51 Main Street, Suite 101, Van Buren, ME 04785.
Townships of Hillsborough and Warren, Somerset County, New Jersey
New Jersey | Township of Warren | Cory's Brook | At the confluence with Passaic River | +214 | +213
|  |  | Approximately 1,800 feet upstream of Powder Horn Road | None | +405
| Township of Hillsborough | Neshanic River | At the confluence with South Branch Raritan River | +81 | +82
|  |  | Approximately 1.73 miles upstream of Montgomery Road | +103 | +102
* National Geodetic Vertical Datum.
# Depth in feet above ground.
+ North American Vertical Datum.
ADDRESSES
Township of Hillsborough
Maps are available for inspection at the Hillsborough Township Municipal Complex, 379 South Branch Road, Hillsborough, New Jersey.
Send comments to The Honorable Carl Suraci, Mayor of the Township of Hillsborough, Hillsborough Township Municipal Complex, 379 South Branch Road, Hillsborough, New Jersey 08844.
Township of Warren
Maps are available for inspection at the Township of Warren Engineering Department, 46 Mountain Boulevard, Warren, New Jersey.
Send comments to The Honorable Carolyn Garafola, Mayor of the Township of Warren, 46 Mountain Boulevard, Warren, New Jersey 07059.

Flooding source(s) | Location of referenced elevation | * Elevation in feet (NGVD) + Elevation in feet (NAVD) # Depth in feet above ground: Effective | * Elevation in feet (NGVD) + Elevation in feet (NAVD) # Depth in feet above ground: Modified | Communities affected
Clark County, Nevada, and Incorporated Areas
Virgin River | 5.0 miles downstream of the confluence of Pulsipher Wash | None | +1473 | Clark County (Unincorporated Areas), City of Mesquite.
| 0.5 miles upstream of the confluence of the Virgin River Avulsion | +1592 | +1597
Virgin River Avulsion | 0.3 miles upstream of the confluence with the Virgin River | +1587 | +1591 | City of Mesquite.
| 0.8 miles upstream of the confluence with the Virgin River | +1592 | +1598
* National Geodetic Vertical Datum.
# Depth in feet above ground.
+ North American Vertical Datum.
ADDRESSES
City of Mesquite
Maps are available for inspection at Office of the City Engineer, 10 E. Mesquite Boulevard, Mesquite, NV 89027.
Send comments to The Honorable Bill Nicholes, Mayor, City of Mesquite, 10 East Mesquite Boulevard, Mesquite, NV 89027.
Clark County (Unincorporated Areas)
Maps are available for inspection at Office of the Director of Public Works, 500 Grand Central Pky, Las Vegas, NV 89155.
Send comments to The Honorable Rory Reid, Chairman, Clark County Commission, 500 Grand Central Parkway, Las Vegas, NV 89106.
Montgomery County, North Carolina, and Incorporated Areas
Alls Fork | At the Montgomery/Davidson County boundary | None | +511 | Montgomery County (Unincorporated Areas).
| At the confluence with Beaverdam Creek | None | +511
Arnett Branch | At the confluence with Densons Creek | None | +504 | Montgomery County (Unincorporated Areas).
| Approximately 75 feet downstream of Substation Road (State Road 1315) | None | +519
Asheworth Branch | At the confluence with Little River | None | +562 | Montgomery County (Unincorporated Areas).
| Approximately 200 feet upstream of King Drive | None | +574
Barnes Creek | At the confluence with Uwharrie River | None | +329 | Montgomery County (Unincorporated Areas).
| Approximately 1,570 feet upstream of Flint Hill Road | None | +483
Barnes Mill Creek | At the confluence with West Fork Little River | None | +480 | Montgomery County (Unincorporated Areas).
| Approximately 1.0 mile upstream of the confluence with West Fork Little River | None | +523
Beaverdam Creek | At the confluence with Reynolds Creek | None | +511 | Montgomery County (Unincorporated Areas).
| At the Montgomery/Davidson County boundary | None | +511
Betsy Creek | At the confluence with West Fork Little River | None | +588 | Montgomery County (Unincorporated Areas).
| Approximately 1,330 feet upstream of Smith Farm Road | None | +630
Big Creek | Approximately 1,200 feet upstream of the confluence with Little River | +362 | +363 | Montgomery County (Unincorporated Areas).
| Approximately 3.1 miles upstream of the confluence of Little Creek | None | +604
Big Mountain Creek | At the Montgomery/Richmond County boundary | None | +378 | Montgomery County (Unincorporated Areas).
| Approximately 890 feet upstream of Big Mountain Creek Tributary 2 | None | +454
Big Mountain Creek Tributary 1 | At the confluence with Big Mountain Creek | None | +432 | Montgomery County (Unincorporated Areas).
| Approximately 0.5 mile upstream of the confluence with Big Mountain Creek | None | +449
Big Mountain Creek Tributary 2 | At the confluence with Big Mountain Creek | None | +450 | Montgomery County (Unincorporated Areas).
| Approximately 1,800 feet upstream of the confluence with Big Mountain Creek | None | +471
Big Town Creek | At the confluence with Little River | None | +211 | Montgomery County (Unincorporated Areas).
| Approximately 1.44 miles upstream of NC 731 Highway | None | +368
Big Wolf Branch | At the confluence with Little Hamer Creek | None | +257 | Montgomery County (Unincorporated Areas).
| Approximately 200 feet upstream of Warner Farm Road | None | +283
Bishop Creek | At the confluence with Dumas Creek | None | +486 | Montgomery County (Unincorporated Areas).
| Approximately 1.5 miles upstream of Shiloh Church Road | None | +563
Bridgers Creek | At the downstream side of Capelsie Road (State Road 1519) | +382 | +383 | Montgomery County (Unincorporated Areas).
| Approximately 680 feet downstream of Currie Road | None | +549
Cabin Creek | At the Montgomery/Moore County boundary | None | +486 | Montgomery County (Unincorporated Areas).
| Approximately 0.8 mile upstream of U.S. Highway 220 | None | +587
Cabin Creek Tributary | At the confluence with Cabin Creek | None | +538 | Montgomery County (Unincorporated Areas).
| Approximately 1,000 feet upstream of Post Office Road | None | +557
Cedar Creek | Approximately 500 feet upstream of the confluence with Little River | None | +389 | Montgomery County (Unincorporated Areas).
| Approximately 0.66 mile upstream of McCaskill Road | None | +540
Cheek Creek | At the Montgomery/Richmond County boundary | None | +207 | Montgomery County (Unincorporated Areas).
| Approximately 2.0 miles upstream of the confluence of Indian Branch | None | +418
Clark's Creek Tributary | Approximately 80 feet upstream of the railroad | None | +284 | Town of Mount Gilead.
| At NC Highway 731 | None | +289
Clarks Creek | At the confluence with Pee Dee River | None | +230 | Montgomery County (Unincorporated Areas).
| Approximately 1.6 miles upstream of NC Highway 24/27 | None | +539
Cotton Creek | At the Montgomery/Moore County boundary | None | +477 | Montgomery County (Unincorporated Areas).
| Approximately 40 feet upstream of Cotton Creek Road | None | +507
Densons Creek | At the confluence with Little River | None | +395 | Montgomery County (Unincorporated Areas) Town of Troy.
| Approximately 600 feet upstream of Substation Road | None | +520
Dicks Creek | At the confluence with Little River | None | +415 | Montgomery County (Unincorporated Areas).
| Just downstream of the confluence of Lick Creek | None | +481
Dicks Creek Tributary 1 | At the confluence with Dicks Creek | None | +424 | Montgomery County (Unincorporated Areas) Town of Biscoe.
| Approximately 1.8 miles upstream of Dicks Creek | None | +576
Disons Creek | At the confluence with Little River | None | +218 | Montgomery County (Unincorporated Areas).
| Approximately 580 feet upstream of Calvery Church Road | None | +333
Disons Creek Tributary 1 | At the confluence with Disons Creek | None | +304 | Montgomery County (Unincorporated Areas).
| Approximately 0.58 mile upstream of the confluence with Disons Creek | None | +337
Drowning Creek | At the Montgomery/Moore/Richmond County boundary | None | +368 | Montgomery County (Unincorporated Areas).
| Approximately 1.5 miles upstream of Dowd Road | None | +672
Drowning Creek Tributary 1 | At the confluence with Drowning Creek | None | +406 | Montgomery County (Unincorporated Areas).
| Approximately 0.5 mile upstream of Bennett Road | None | +514
Dry Creek | At the confluence with Big Mountain Creek | None | +389 | Montgomery County (Unincorporated Areas).
| Approximately 1,340 feet upstream of Graham Road | None | +405
Dumas Creek | At the confluence with Densons Creek | None | +452 | Montgomery County (Unincorporated Areas).
| Approximately 0.9 mile upstream of the confluence of Flat Rock Branch | None | +637
Duncombe Creek | At the confluence with Uwharrie River | None | +338 | Montgomery County (Unincorporated Areas).
| Approximately 0.5 mile upstream of Uwharrie River | None | +367
Dutchmans Creek | Approximately 800 feet upstream of the confluence with Uwharrie River | None | +289 | Montgomery County (Unincorporated Areas).
| Approximately 330 feet upstream of River Road | None | +348
Flat Rock Branch | At the confluence with Dumas Creek | None | +581 | Montgomery County (Unincorporated Areas).
| Approximately 0.4 mile upstream of Dumas Creek | None | +598
Garr Creek | At the confluence with Yadkin River | None | +511 | Montgomery County (Unincorporated Areas).
| Approximately 280 feet upstream of Tuckertown Road | None | +516
Glady Fork | At the confluence with Reynolds Creek | None | +511 | Montgomery County (Unincorporated Areas).
| Approximately 0.6 mile upstream of NC 109 Highway | None | +574
Hickory Branch | At the confluence with White Oak Creek | None | +540 | Montgomery County (Unincorporated Areas) Town of Biscoe.
| Approximately 330 feet upstream of West Main Street | None | +595
Indian Branch | At the confluence with Cheek Creek | None | +337 | Montgomery County (Unincorporated Areas).
| Approximately 0.6 mile upstream of Cheek Creek | None | +358
Lick Creek | At the confluence with Dicks Creek | None | +481 | Montgomery County (Unincorporated Areas).
| Approximately 30 feet upstream of the confluence of Lick Creek Tributary 1 | None | +544
Lick Creek (into Cotton Creek) | At the confluence with Cotton Creek | None | +507 | Montgomery County (Unincorporated Areas).
| Approximately 1.1 miles upstream of Cotton Creek Road | None | +525
Lick Creek Tributary 1 | At the confluence with Lick Creek | None | +544 | Montgomery County (Unincorporated Areas) Town of Biscoe.
| Approximately 650 feet upstream of Jackson Drive | None | +569
Lick Creek Tributary 2 | At the confluence with Lick Creek | None | +501 | Montgomery County (Unincorporated Areas) Town of Biscoe.
| Approximately 0.6 mile upstream of Wright Road | None | +572
Lick Creek Tributary 2A | At the confluence with Lick Creek Tributary 2 | None | +512 | Montgomery County (Unincorporated Areas) Town of Biscoe.
| Approximately 590 feet upstream of Shady Oak Drive | None | +545
Lick Fork | At the upstream side of CC Camp Road | None | +301 | Montgomery County (Unincorporated Areas).
| Approximately 350 feet upstream of NC Highway 27/24 | None | +584
Lick Fork Tributary 1 | At the confluence with Lick Fork | None | +455 | Montgomery County (Unincorporated Areas).
| Approximately 0.8 mile upstream of the confluence with Lick Fork | None | +491
Little Creek | At the confluence with Big Creek | None | +464 | Montgomery County (Unincorporated Areas).
| Approximately 0.7 mile upstream of the confluence with Big Creek | None | +487
Little Dry Creek | At the confluence with Big Creek | None | +374 | Montgomery County (Unincorporated Areas).
| Approximately 0.7 mile upstream of the confluence with Big Creek | None | +396
Little Dumas Creek | At the confluence with Dumas Creek | None | +553 | Montgomery County (Unincorporated Areas).
| Approximately 1.6 miles upstream of Shiloh Church Road | None | +678
Little Hamer Creek | At the Montgomery/Richmond County boundary | None | +241 | Montgomery County (Unincorporated Areas).
| Approximately 1.1 miles upstream of Gaddy Farm Road | None | +298
Little River | At the Montgomery/Richmond County boundary | None | +207 | Montgomery County (Unincorporated Areas).
| At the Montgomery/Randolph County boundary | None | +572
Little River Tributary 1 | Approximately 2,000 feet upstream of the confluence with Little River | +382 | +383 | Montgomery County (Unincorporated Areas).
| Approximately 0.7 mile upstream of Little River | None | +400
Long Branch | At the confluence with Little River | None | +360 | Montgomery County (Unincorporated Areas).
| Approximately 310 feet upstream of Hicks Road | None | +386
McLeans Creek | At the confluence with Moccasin Creek | None | +338 | Montgomery County (Unincorporated Areas).
| Approximately 1.3 miles upstream of Mullinix Road | None | +458
Middle Prong Hamer Creek | At the Montgomery/Richmond County boundary | None | +247 | Montgomery County (Unincorporated Areas)
| Approximately 0.5 mile upstream of Melton Grove Church Road | None | +296
Moccasin Creek | Approximately 1,500 feet upstream of the confluence with Uwharrie River | None | +322 | Montgomery County (Unincorporated Areas).
| Approximately 100 feet upstream of the confluence with West Branch | None | +348
Mountain Branch | At the confluence with Glady Fork | None | +523 | Montgomery County (Unincorporated Areas).
| At the Montgomery/Davidson County boundary | None | +600
Naked Creek (into Drowning Creek) | At the Montgomery/Richmond County boundary | None | +458 | Montgomery County (Unincorporated Areas).
| Approximately 1,400 feet downstream of Belford Church Road | None | +544
Nichols Run | At the confluence with West Fork Little River | None | +545 | Montgomery County (Unincorporated Areas).
| Approximately 1,350 feet upstream of Lucas Road | None | +596
Nichols Run Tributary 1 | At the confluence with Nichols Run | None | +555 | Montgomery County (Unincorporated Areas).
| Approximately 0.9 mile upstream of NC 134 Highway N | None | +596
Pee Dee River | At the Montgomery/Richmond County boundary | None | +220 | Montgomery County (Unincorporated Areas).
| At the confluence of Yadkin River and Uwharrie River | None | +287
Pee Dee River Tributary 5 | At the confluence with Pee Dee River | None | +222 | Montgomery County (Unincorporated Areas).
| Approximately 0.9 mile upstream of Pee Dee River | None | +242
Poison Fork | At the confluence with Barnes Creek | None | +454 | Montgomery County (Unincorporated Areas).
| Approximately 2.3 miles upstream of Flint Hill Road | None | +567
Polly Branch | At the confluence with Cheek Creek | None | +296 | Montgomery County (Unincorporated Areas).
| Approximately 0.7 mile upstream of the confluence with Cheek Creek | None | +333
Reedy Fork | At the confluence with Cedar Creek | None | +537 | Montgomery County (Unincorporated Areas).
| Approximately 0.6 mile upstream of Cedar Creek | None | +577
Reynolds Creek | At the confluence with Yadkin River | None | +511 | Montgomery County (Unincorporated Areas).
| At the Montgomery/Davidson County boundary | None | +522
Rock Branch | At the confluence with Big Creek | None | +446 | Montgomery County (Unincorporated Areas).
| Approximately 0.7 mile upstream of the confluence with Big Creek | None | +470
Rocky Creek (East) | At the confluence with Little River | None | +316 | Montgomery County (Unincorporated Areas).
| Approximately 0.41 mile upstream of Mount Carmel Church Road | None | +646
Rocky Creek (East) Tributary 1 | At the confluence with Rocky Creek | None | +633 | Montgomery County (Unincorporated Areas).
| Approximately 0.5 mile upstream of Mount Carmel Church Road | None | +667
Rocky Creek (West) | At the confluence with Pee Dee River | None | +280 | Montgomery County (Unincorporated Areas).
| Approximately 0.6 mile upstream of NC Highway 24/27 | None | +362
Sand Branch | At the confluence with Cheek Creek | None | +304 | Montgomery County (Unincorporated Areas).
| Approximately 0.4 mile upstream of the confluence with Cheek Creek | None | +318
Silver Creek | Approximately 400 feet upstream of County Line Road | None | +386 | Montgomery County (Unincorporated Areas).
| Approximately 1.2 miles upstream of County Line Road | None | +413
Suck Branch | At the confluence with Densons Creek | None | +428 | Town of Troy.
| Just downstream of Williamson Road | None | +528
Suggs Creek | At the confluence with Little River | None | +505 | Montgomery County (Unincorporated Areas).
| Approximately 0.5 mile upstream of Suggs Creek Tributary | None | +603
Suggs Creek Tributary | At the confluence with Suggs Creek | None | +586 | Montgomery County (Unincorporated Areas).
| Approximately 0.8 mile upstream of Suggs Creek | None | +612
Susies Creek | At the confluence with Little River | None | +214 | Montgomery County (Unincorporated Areas).
| Approximately 0.4 mile upstream of NC Highway 731 | None | +272
Thickety Creek | At the confluence with Little River | None | +230 | Montgomery County (Unincorporated Areas).
| Approximately 1.2 miles upstream of Thickety Creek Road | None | +306
Townsend Branch | At the confluence with Woodwards Branch | None | +257 | Montgomery County (Unincorporated Areas).
| Approximately 2.2 miles upstream of the confluence with Woodwards Branch | None | +307
Turkey Creek | Approximately 1,550 feet upstream of the confluence with Little River | +377 | +378 | Montgomery County (Unincorporated Areas).
| Approximately 0.6 mile upstream of the confluence with Little River | None | +397
Unnamed Tributary to Wolf Branch Creek | Approximately 1,000 feet downstream of Nelson Store Road | None | +241 | Montgomery County (Unincorporated Areas).
| Approximately 0.5 mile downstream of Haithcock Road | None | +248
Uwharrie River | At the confluence with Yadkin River | None | +287 | Montgomery County (Unincorporated Areas).
| Approximately 1.7 miles upstream of Low Water Bridge Road | None | +369
Warner Creek | At the confluence with Rocky Creek (East) | None | +417 | Montgomery County (Unincorporated Areas).
| Approximately 1.7 miles upstream of Saunders Road | None | +472
West Branch | At the confluence with Moccasin Creek | None | +348 | Montgomery County (Unincorporated Areas).
| Approximately 1.2 miles upstream of McLeans Creek Road | None | +403
West Fork Little River | At the confluence with Little River | None | +432 | Montgomery County (Unincorporated Areas).
| At the Montgomery/Randolph County boundary | None | +615
West Prong Hamer Creek | At the confluence with Middle Prong Hamer Creek | None | +248 | Montgomery County (Unincorporated Areas).
| Approximately 1.2 miles upstream of NC 109 Highway S | None | +293
White Oak Creek | At the confluence with Cedar Creek | None | +455 | Montgomery County (Unincorporated Areas) Town of Biscoe.
| Approximately 0.4 mile upstream of Martin Street | None | +608
White Oak Creek Tributary 1 | At the confluence with White Oak Creek | None | +521 | Montgomery County (Unincorporated Areas) Town of Biscoe.
| Approximately 1,600 feet upstream of Quinton Road | None | +580
White Oak Creek Tributary 1A | At the confluence with White Oak Creek Tributary 1 | None | +541 | Montgomery County (Unincorporated Areas).
| Approximately 0.4 mile upstream of White Oak Creek Tributary 1 | None | +573
Wolf Creek | Approximately 1,000 feet downstream of Hogan Farm Road | None | +519 | Montgomery County (Unincorporated Areas).
| Approximately 1,700 feet upstream of U.S. Highway 220 | None | +628
Wolf Creek Tributary | At the confluence with Wolf Creek | None | +542 | Montgomery County (Unincorporated Areas).
| Approximately 50 feet downstream of Wolf Creek Road | None | +609
Woodwards Branch | At the confluence with Cheek Creek | None | +255 | Montgomery County (Unincorporated Areas).
| Approximately 1,320 feet upstream of NC 731 Highway E | None | +270
Yadkin River | At the confluence of Pee Dee River and Uwharrie River | None | +287 | Montgomery County (Unincorporated Areas).
| Approximately 13.3 miles upstream of Uwharrie River | None | +566
* National Geodetic Vertical Datum.
# Depth in feet above ground.
+ North American Vertical Datum.
ADDRESSES
Town of Biscoe
Maps are available for inspection at Biscoe Town Hall, 110 West Main Street, Biscoe, NC.
Send comments to The Honorable James Blake, Mayor of the Town of Biscoe, P.O. Box 1228, Biscoe, NC 27209.
Town of Mount Gilead
Maps are available for inspection at Mount Gilead Town Hall, 110 West Allenton Street, Mount Gilead, NC.
Send comments to The Honorable Earl Poplin, Mayor of the Town of Mount Gilead, P.O. Box 325, Mount Gilead, NC 27306.
Town of Troy
Maps are available for inspection at Troy Town Hall, 315 North Main Street, Troy, NC.
Send comments to Mr. Greg Zephir, Troy Town Manager, 315 North Main Street, Troy, NC 27371.
Montgomery County (Unincorporated Areas)
Maps are available for inspection at Montgomery County Inspections and Zoning Office, 219 South Main Street, Troy, NC.
Send comments to Mr. Lance Metzler, Montgomery County Manager, P.O. Box 425, Troy, NC 27371.
Alexander County, North Carolina and Incorporated Areas
Beaverdam Creek | At the confluence with Big Branch into South Yadkin River | None | +1,026 | Alexander County (Unincorporated Areas).
| Approximately 2.5 miles upstream of Vashti Road | None | +1,151
Big Branch into South Yadkin River | At the confluence with South Yadkin River | None | +1,025 | Alexander County (Unincorporated Areas).
| Approximately 0.5 mile upstream of Vashti Cemetery Road | None | +1,181
Greasy Creek | At the confluence with Wallace Creek | None | +1,016 | Alexander County (Unincorporated Areas).
| Approximately 1,930 feet upstream of Carson Chapel Road | None | +1,175
Greasy Creek Tributary 1 | At the confluence with Greasy Creek | None | +1,035 | Alexander County (Unincorporated Areas), Town of Taylorsville.
| Approximately 1,950 feet upstream of Hammer Road | None | +1,199
Mill Creek | At the confluence with South Yadkin River | None | +1,020 | Alexander County (Unincorporated Areas).
| Approximately 0.4 mile upstream of confluence with South Yadkin River | None | +1,025
Miller Creek | At the confluence with South Yadkin River | None | +857 | Alexander County (Unincorporated Areas).
| Approximately 250 feet upstream of Sprinkle Dairy Road | None | +1,009
Rocky Creek | At the Alexander County boundary | None | +1,096 | Alexander County (Unincorporated Areas).
| Approximately 900 feet upstream of Linney's Mill Road | None | +1,191
Snow Creek | Approximately 200 feet downstream of the Iredell/Alexander County boundary | None | +1,013 | Alexander County (Unincorporated Areas).
| Approximately 150 feet upstream of the Iredell/Alexander County boundary | None | +1,013
South Yadkin River | Approximately 400 feet downstream of the Iredell/Alexander County boundary | None | +843 | Alexander County (Unincorporated Areas).
| Approximately 500 feet downstream of Vashti Road | None | +1,066
Third Creek | Approximately 150 feet downstream of the Iredell/Alexander County boundary | None | +915 | Alexander County (Unincorporated Areas).
| Approximately 0.5 mile upstream of Lentz Road | None | +1,004
Wallace Creek | At the confluence with South Yadkin River | None | +905 | Alexander County (Unincorporated Areas).
| Approximately 1,230 feet upstream of confluence of Greasy Creek | None | +1,018
* National Geodetic Vertical Datum.
# Depth in feet above ground.
+ North American Vertical Datum.
ADDRESSES
Town of Taylorsville
Maps are available for inspection at the Alexander County Planning and Inspection Office, 332 1st Avenue Southwest, Taylorsville, North Carolina.
Send comments to The Honorable Guy Barriger, Mayor of the Town of Taylorsville, 67 Main Avenue Drive, Taylorsville, North Carolina 28681.
Alexander County (Unincorporated Areas)
Maps are available for inspection at the Alexander County Planning and Inspection Office, 332 1st Avenue Southwest, Taylorsville, North Carolina.
Send comments to Mr. Darrell Robertson, Chairman of the Alexander County Board of Commissioners, 621 Liledoun Road, Taylorsville, North Carolina 28681.
Lincoln County, South Dakota and Incorporated Areas
Ninemile Creek | Just downstream from 273rd Street | None | +1311 | Lincoln County (Unincorporated Areas).
| Just downstream from 274th Street | None | +1385
| Just upstream from South Dakota Highway 115 | None | +1411
| Just upstream from 272nd Street | None | +1472
| Approximately 320 feet downstream from Kevin Drive | None | +1477
| Approximately 650 feet upstream from Ryan Drive | None | +1483
| 1550 feet upstream from 469th Avenue | None | +1518
Ninemile Creek Tributary | Just upstream from the confluence with Ninemile Creek | None | +1387 | Lincoln County (Unincorporated Areas).
| Approximately 2150 feet downstream from 475th Avenue | None | +1391
| Approximately 500 feet downstream from 475th Avenue at the Corporate Limit line | None | +1400
| Just downstream from 273rd Street | None | +1417
| Approximately 2050 feet upstream from 273rd Street | None | +1425
| Just downstream from 473rd Avenue | None | +1466
Schindler Creek | Just upstream from the confluence with Ninemile Creek | None | +1267 | Lincoln County (Unincorporated Areas).
| Just downstream from 477th Avenue | None | +1394
| Approximately 1150 feet upstream from 271st Street | None | +1452
Spring Creek | Just upstream from the confluence with Big Sioux River | None | +1269 | Lincoln County (Unincorporated Areas).
| Just downstream from South Dakota Highway 11 | None | +1368
| Approximately 950 feet upstream from Cliff Avenue | None | +1461
Spring Creek Tributary | Just upstream from the confluence with Spring Creek | None | +1346 | Lincoln County (Unincorporated Areas).
| Just downstream from Cody Road | None | +1392
| Just upstream from 269th Street | None | +1425
* National Geodetic Vertical Datum.
# Depth in feet above ground.
+ North American Vertical Datum.
ADDRESSES
Town of Harrisburg
Maps are available for inspection at P.O. BOX 26, Harrisburg, SD 57032.
Send comments to The Honorable Reed Ramstad, Mayor, Town of Harrisburg, P.O. BOX 26, Harrisburg, SD 57032.
Town of Tea
Maps are available for inspection at 600 East 1st Street, P.O. BOX 128, Tea, SD 57064.
Send comments to The Honorable John Lawler, Mayor, Town of Tea, P.O. BOX 128, Tea, SD 57064-0128.
Lincoln County (Unincorporated Areas)
Maps are available for inspection at 224 West Ninth Street, Sioux Falls, SD 57104.
Send comments to Commissioner Michael Poppens, Commissioner, Lincoln County South Dakota, 100 East 5th Street, Canton, SD 57013.
Liberty County, Texas and Unincorporated Areas
Cedar Bayou (Lower) | Approximately 1800 feet downstream from Kenning Road (County Boundary) | *37 | +36 | Liberty County (Unincorporated Areas).
| Approximately 3200 feet upstream from Crosby East Gate Road (County Boundary) | *64 | +62
Trinity River | Approximately 1.3 miles downstream from U.S. Route 90 | *26 | +25 | City of Liberty, Liberty County, (Unincorporated Areas).
| Approximately 3.6 miles upstream from the Missouri Pacific Railroad | *37 | +36
* National Geodetic Vertical Datum.
# Depth in feet above ground.
+ North American Vertical Datum.
ADDRESSES
City of Liberty
Maps are available for inspection at Liberty City Hall, 1829 Sam Houston, Liberty, TX 77575.
Send comments to The Honorable Carl Pickett, Mayor, City of Liberty, 1829 Sam Houston, Liberty, TX 77575.
Liberty County (Unincorporated Areas)
Maps are available for inspection at Liberty County Annex, 2103 Cos Street, Liberty, TX 77575.
Send comments to The Honorable Lloyd Kirkham, Judge, Liberty County, 1923 Sam Houston, Liberty, TX 77575.
Dane County, Wisconsin, and Incorporated Areas
Badger Mill Creek | Approximately 500 feet downstream of State Highway 69 | +924 | +925 | City of Madison, City of Verona, Dane County (Unincorporated Areas).
| At upstream face of U.S. Highway 18 | +939 | +942
| Downstream face of McKee Road | +979 | +983
Badger Mill Creek Diversion Channel | At downstream face of Old County Highway PB | +952 | +953 | City of Verona, Dane County (Unincorporated Areas).
| At downstream face of U.S. Highway 18 | +953 | +954
Black Earth Creek | At downstream county boundary approximately 1 mile downstream of railroad crossing | +746 | +745 | Village of Black Earth, Dane County (Unincorporated Areas).
| At upstream face of State Street | +772 | +770 | Village of Cross Plains.
| Approximately 0.8 miles upstream of US Highway 14 | None | +924 | Village of Mazomanie.
Black Earth Creek Secondary Channel | Approximately 500 feet upstream of confluence with Black Earth Creek | None | +765 | Village of Mazomanie, Dane County (Unincorporated Areas).
| At divergence from Black Earth Creek | None | +771
Brewery Creek | At confluence with Black Earth Creek | +872 | +873 | Village of Cross Plains.
| Approximately 600 feet upstream of Brewery Road | +905 | +906
Dry Tributary to Badger Mill Creek | Just upstream of U.S. Highway 18/151 | +937 | +943 | City of Verona, Dane County (Unincorporated Areas).
| At downstream face of Mid-Town Road | None | +1032
East Branch Badger Mill Creek | At confluence with Badger Mill Creek | +972 | +973 | City of Madison.
| Approximately 350 feet downstream of McKee Road | +982 | +983
East Branch Starkweather Creek | At upstream face of Milwaukee Street | +849 | +850 | City of Madison, Dane County (Unincorporated Areas).
| At upstream face of South Stoughton Road | +851 | +853
| At upstream face of Interstate 39 | None | +878
Koshkonong Creek (Lower) | At upstream face of Aarback Road | +800 | +801 | Village of Cambridge, Dane County (Unincorporated Areas).
| Approximately 350 feet upstream of Adams Street | +823 | +817
| At upstream side of bike path near Oak Park Road | +856 | +855 | Village of Rockdale.
Koshkonong Creek (Upper) | Approximately 0.7 miles downstream of North Jargo Road | +858 | +857 | City of Sun Prairie, Dane County (Unincorporated Areas).
| At downstream face of Baxter Road | +864 | +866
| At upstream face of County Highway T | +909 | +912
| Approximately 200 feet upstream of Musket Ridge Drive | +961 | +962
Milwaukee Street Tributary | At confluence with East Branch Starkweather Creek | +850 | +851 | City of Madison.
| Approximately 1,200 feet downstream of Milwaukee Street | +851 | +852
Pennito Creek | At upstream face of West Beltline Highway | +858 | +860 | City of Madison, Dane County (Unincorporated Areas).
| At upstream face of County Highway AB | None | +878
Pheasant Branch | At upstream face of Century Avenue | +856 | +853 | City of Middleton, Dane County (Unincorporated Areas).
| At upstream face of Park Street | +899 | +912
| At downstream face of Schneider Road | +932 | +934
Portage Road Tributary | At confluence with West Branch Starkweather Creek | +860 | +862 | City of Madison, Dane County (Unincorporated Areas).
| At downstream face of Interstate 39 | +892 | +893
Sixmile Creek | At downstream face of County Highway M | +852 | +853 | Village of Waunakee, Dane County (Unincorporated Areas).
| At downstream face of Kingsley Road | +921 | +922
South Fork to Pheasant Branch | At confluence with Pheasant Branch | +919 | +916 | City of Middleton.
| At downstream face of Eagle Drive | None | +929
Sugar River | Approximately 0.5 miles upstream of Lake Belle View Dam | +863 | +864 | Village of Belleville, Dane County (Unincorporated Areas).
| At downstream face of U.S. Highway 18 | None | +926
Token Creek | Approximately 1,500 feet downstream of County Highway C | +889 | +891 | City of Sun Prairie, Dane County (Unincorporated Areas).
| Approximately 1,200 feet downstream of Egre Road | +912 | +909
| At downstream face of Egre Road | +915 | +914
Unnamed Tributary To Lake Waubesa | At downstream face of South Stoughton Road | +851 | +849 | City of Madison, City of Monona, Dane County (Unincorporated Areas).
| At upstream face of Interstate 39 | None | +862
West Branch Starkweather Creek | At downstream face of Commercial Avenue | +852 | +851 | City of Madison, Dane County (Unincorporated Areas).
| At upstream face of North Stoughton Road | +859 | +862
| At downstream face of Interstate 39 | None | +867
Wisconsin River | At downstream county boundary approximately 8.5 miles downstream of State Highway 12 | +732 | +731 | Dane County (Unincorporated Areas).
| Approximately 500 feet downstream of State Highway 60 | +749 | +748
Yahara River | Approximately 1 mile downstream of County Highway N | +819 | +820 | City of Madison, City of Middleton.
| At confluence with Token Creek | +854 | +856 | City of Monona.
| Approximately 600 feet downstream of U.S. Highway 51 | +936 | +939 | City of Stoughton, Dane County (Unincorporated Areas), Village of De Forest, Village of McFarland, Village of Shorewood Hills.
* National Geodetic Vertical Datum.
# Depth in feet above ground.
+ North American Vertical Datum.
ADDRESSES
City of Madison
Maps are available for inspection at 210 Martin Luther King Boulevard, Madison, WI.
Send comments to The Honorable David Cieslewicz, Mayor, 210 Martin Luther King Boulevard, # 403, Madison, WI 53703-3342.
City of Middleton
Maps are available for inspection at 7426 Hubbard Avenue, Middleton, WI.
Send comments to Douglas Zwank, Mayor, 7426 Hubbard Avenue, Middleton, WI 53562-3118.
City of Monona
Maps are available for inspection at 5211 Schluter Road, Monona, WI.
Send comments to The Honorable Robb Kahl, Mayor, 5211 Schluter Road, Monona, WI 53716-2598.
City of Stoughton
Maps are available for inspection at 381 E. Main Street, Stoughton, WI.
Send comments to The Honorable Helen Johnson, Mayor, 381 E. Main Street, Stoughton, WI 53589-1724.
City of Sun Prairie
Maps are available for inspection at 300 E. Main Street, Sun Prairie, WI.
Send comments to The Honorable Joe Chase, Mayor, 300 E. Main Street, Sun Prairie, WI 53590-2227.
City of Verona
Maps are available for inspection at 111 Lincoln Street, Verona, WI.
Send comments to The Honorable Jon Hochkammer, Mayor, 111 Lincoln Street, Verona, WI 53593-1520.
Dane County (Unincorporated Areas)
Maps are available for inspection at 210 Martin Luther King Boulevard, Madison, WI.
Send comments to The Honorable Kathleen Falk, County Executive, 210 Martin Luther King Boulevard, #421, Madison, WI 53703.
Village of Belleville
Maps are available for inspection at 24 West Main Street, Belleville, WI.
Send comments to Mr. Paul Ziehli, President, PO Box 79, Belleville, WI 53508.
Village of Black Earth
Maps are available for inspection at 1210 Mills Street, Black Earth, WI.
Send comments to Mr. Vern Wendt, President, PO Box 347, Black Earth, WI 53515.
Village of Cambridge
Maps are available for inspection at 200 Spring Street, Cambridge, WI.
Send comments to Mr. Donn Trieloff, President, PO Box 99, Cambridge, WI 53523-0099.
Village of Cross Plains
Maps are available for inspection at 2417 Brewery Road, Cross Plains, WI 53528-9471.
Send comments to Mr. Mike Schutz, President, 2417 Brewery Road, Cross Plains, WI 53528-9471.
Village of De Forest
Maps are available for inspection at 306 Deforest Street, Deforest, WI 53532.
Send comments to Jeff Miller, President, 306 Deforest Street, Deforest, WI 53532.
Village of Mazomanie
Maps are available for inspection at 133 Crescent Street, Mazomanie, WI.
Send comments to Mr. Jeffrey Wirth, President, P.O. Box 26, Mazomanie, WI 53560.
Village of McFarland
Maps are available for inspection at 5915 Milwaukee Street, McFarland, WI 53558-0110.
Send comments to Chris Klar, President, 5915 Milwaukee Street, McFarland, WI 53558-0110.
Village of Rockdale
Maps are available for inspection at 148 Water Street, Rockdale, WI 53523.
Send comments to Mr. Charles Hutchens, President, 148 Water Street, Rockdale, WI 53523.
Village of Shorewood Hills
Maps are available for inspection at 810 Shorewood Blvd., Madison, WI 53705-2115.
Send comments to Peter Hans, President, 810 Shorewood Blvd., Madison, WI 53705-2115.
Village of Waunakee
Maps are available for inspection at 500 West Main Street, Waunakee, WI.
Send comments to Mr. John Laubmeier, President, P.O. Box 100, Waunakee, WI 5397.
Columbia County, Wisconsin and Incorporated Areas
Baraboo River | At confluence with the Wisconsin River | *788 | *790 | Columbia County (Unincorporated Areas).
| Downstream side of Interstate 90 | *797 | *796
Big Slough | At confluence with Neenah Creek | *791 | *790 | Columbia County (Unincorporated Areas).
| Downstream side of State Highway 16 | *792 | *796
Duck Creek | Upstream side of U.S. Highway 51 | *789 | *791 | Columbia County (Unincorporated Areas).
| Upstream side of Chicago Milwaukee St. Paul and Pacific Railroad | *791 | *791
Fox River | At downstream county boundary between Columbia and Marquette counties | *782 | *779 | City of Portage, Columbia County (Unincorporated Areas).
| Downstream side of Chicago Milwaukee St. Paul and Pacific Railroad | *789 | *785
Neenah Creek | Downstream side of County Highway CM | *783 | *781 | Columbia County (Unincorporated Areas).
| At confluence with Big Slough | *791 | *790
Spring Creek | Approximately ½ mile downstream of Fair Street | *806 | *805 | City of Lodi.
| Upstream side of Riddle Road | *833 | *834
Spring Creek Tributary A | At confluence with Spring Creek | *821 | *821 | City of Lodi.
| Approximately 1,300 feet upstream of Spring Street | *821 | *821
Wisconsin River | Downstream side of State Highway 60 | *748 | *748 | City of Portage, City of Wisconsin Dells, Columbia County (Unincorporated Areas).
| Upstream side of Interstate 39 | *795 | *798
| At upstream county boundary between Columbia and Adams counties | *848 | *848
* National Geodetic Vertical Datum.
# Depth in feet above ground.
+ North American Vertical Datum.
ADDRESSES
Columbia County (Unincorporated Areas)
Maps are available for inspection at: Columbia County Planning and Zoning Department, 400 DeWitt St., Portage, WI 53901.
Send comments to: John Bluemke, Director of Planning and Zoning, 400 DeWitt St., Portage, WI 53901.
City of Lodi
Maps are available for inspection at: City Clerk's Office, 130 S. Main St., Lodi, WI 53555.
Send comments to: Zoning Administrator, 130 S. Main St., Lodi, WI 53555.
City of Portage
Maps are available for inspection at: City Hall, 115 W. Pleasant St., Portage, WI 53901.
Send comments to: City Administrator, 115 W. Pleasant St., Portage, WI 53901.
City of Wisconsin Dells
Maps are available for inspection at: City Hall, 300 La Crosse St., Wisconsin Dells, WI 53965.
Send comments to: Michael Horkan, Director of Public Works, 300 La Crosse St., Wisconsin Dells, WI 53965.

(Catalog of Federal Domestic Assistance No. 83.100, “Flood Insurance.”)

Dated: February 20, 2007.
David I. Maurstad,
Director, Mitigation Division, Federal Emergency Management Agency, Department of Homeland Security.

[FR Doc. E7-3280 Filed 2-26-07; 8:45 am]

BILLING CODE 9110-12-P